DEPARTMENT OF STATE

[Public Notice: 11897]

60-Day Notice of Proposed Information Collection: JADE Act Questionnaire

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 6, 2023.

ADDRESSES: You may submit comments by any of the following methods:

• Web: Persons with access to the internet may comment on this notice by going to www.Regulations.gov. You can search for the document by entering “Docket Number: DOS-2022-0040” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to Tonya Whigham who may be reached at PRA_BurdenComments@state.gov or at 202-485-7586.

SUPPLEMENTARY INFORMATION:

• Title of Information Collection: JADE Act Questionnaire.

• OMB Control Number: 1405-0236.

• Type of Request: Extension of a Currently Approved Collection.

• Originating Office: CA/VO.

• Form Number: DS-5537.

• Respondents: Burmese Applicants for U.S. Visas.

• Estimated Number of Respondents: 20,500.

• Estimated Number of Responses: 20,500.

• Average Time per Response: 30 minutes.

• Total Estimated Burden Time: 10,250 hours.

• Frequency: Once per application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Tom Lantos Block Burmese Jade Junta's Anti-Democratic Efforts (JADE) Act of 2008, Public Law 110-286, renders certain individuals involved in specified Burmese organizations or activities ineligible for U.S. visas, including: leaders of the State Peace and Development Council (SPDC), the Burmese military, or the Union Solidarity Development Association (USDA); officials of the SPDC, the Burmese military, or the USDA involved in human rights violations and impeding democracy in Burma; and Burmese persons who provided substantial economic or political support to the SPDC, Burmese military, or USDA. Immediate family members of these individuals are also ineligible for United States visas. Department of State consular officers will use the information provided to evaluate and adjudicate the individual applicant's eligibility for a visa consistent with these requirements.

Methodology

Visa applicants from Burma will fill out and submit the supplemental form and provide it to consular officers. Consular officers will use the form to screen for potential visa ineligibility under the JADE Act.

Julie M. Stufft,
Deputy Assistant Secretary, Bureau of Consular Affairs, Department of State.

[FR Doc. 2022-24215 Filed 11-4-22; 8:45 am]

BILLING CODE 4710-06-P